DEPARTMENT OF HEALTH AND HUMAN SERVICES

National Institutes of Health

National Institute of Mental Health; Notice of Meeting

Pursuant to section 10(a) of the Federal Advisory Committee Act, as amended (5 U.S.C. App.), notice is hereby given of a meeting of the Services Subcommittee of the Interagency Autism Coordinating Committee (IACC).

The Interagency Autism Coordinating Committee (IACC) Services Subcommittee will be meeting on Monday, September 13, 2010. The subcommittee plans to discuss issues related to services and supports for individuals with autism spectrum disorder (ASD) and their families as well as plans for an IACC workshop on services and supports that will be held in November 2010. This meeting will be open to the public and will be accessible by Webcast and conference call.

Name of Committee: Interagency Autism Coordinating Committee (IACC).

Type of meeting: Services Subcommittee.

Date: September 13, 2010.

Time: 1 p.m. to 4 p.m. Eastern Time.

Agenda: The subcommittee plans to discuss issues related to services and supports for individuals with autism spectrum disorder (ASD) and their families as well as plans for an IACC workshop on services and supports that will be held in November 2010.

Place: National Institute of Mental Health, 6001 Executive Boulevard, NSC, Conference Room A1/A2, Rockville, MD 20852.

Webcast Live: http://videocast.nih.gov/.

Conference Call Access: Dial: 888-456-0353, Access code: 2177022.

Cost: The meeting is free and open to the public.

Registration: http://www.acclaroresearch.com/oarc/9-13-10_IACC/. Pre-registration is recommended to expedite check-in. Seating in the meeting room is limited to room capacity and on a first come, first served basis.

Access: Metro accessible—White Flint Metro (Red Line).

Contact Person: Ms. Lina Perez, Office of Autism Research Coordination, Office of the Director, National Institute of Mental Health, NIH, 6001 Executive Boulevard, NSC, Room 8200, Bethesda, MD 20892-9669, Phone: 301-443-6040, E-mail: IACCPublicInquiries@mail.nih.gov.

Please Note: The meeting will be open to the public through a conference call phone number and Webcast live on the Internet. Members of the public who participate using the conference call phone number will be able to listen to the meeting but will not be heard. If you experience any technical problems with the Webcast live or conference call, please-mail IACCTechSupport@acclaroresearch.com.

Individuals who participate in person or by using these electronic services and who need special assistance, such as captioning of the conference call or other reasonable accommodations, should submit a request to the Contact Person listed on this notice at least 7 days prior to the meeting.

To access the Webcast live on the Internet the following computer capabilities are required: (a) Internet Explorer 5.0 or later, Netscape Navigator 6.0 or later or Mozilla Firefox 1.0 or later; (b) Windows® 2000, XP Home, XP Pro, 2003 Server or Vista; (c) Stable 56k, cable modem, ISDN, DSL or better Internet connection; (d) Minimum of Pentium 400 with 256 MB of RAM (Recommended); (e) Java Virtual Machine enabled (Recommended).

As a part of security procedures, attendees should be prepared to present a photo ID at the meeting registration desk during the check-in process. Pre-registration is recommended. Seating will be limited to the room capacity and seats will be on a first come, first served basis, with expedited check-in for those who are pre-registered. Please note: Online pre-registration will close by 5 p.m. the day before the meeting. After that time, registration will have to be done onsite the day of the meeting.

Meeting schedule subject to change.

Information about the IACC and a registration link for this meeting are available on the Web site: http://www.iacc.hhs.gov.

Dated: August 12, 2010.
Jennifer S. Spaeth,
Director, Office of Federal Advisory Committee Policy.

[FR Doc. 2010-20609 Filed 8-18-10; 8:45 am]

BILLING CODE 4140-01-P